DEPARTMENT OF TRANSPORTATION

Office of the Secretary

Notice of Applications for Certificates of Public Convenience and Necessity and Foreign Air Carrier Permits Filed Under Subpart B (Formerly Subpart Q) During the Week Ending August 25, 2006

The following Applications for Certificates of Public Convenience and Necessity and Foreign Air Carrier Permits were filed under subpart B (formerly subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: OST-2006-25711.

Date Filed: August 23, 2006.

Due Date for Answers, Conforming Applications, or Motion to Modify Scope: September 13, 2006.

Description: Application of Maine Aviation Aircraft Charter, LLC requesting authority to operate scheduled passenger service as a commuter air carrier.

Docket Number: OST-2006-25731.

Date Filed: August 25, 2006.

Due Date for Answers, Conforming Applications, or Motion to Modify Scope: September 12, 2006.

Description: Application of Ocean Airlines S.p.A. (“Ocean”) requesting a foreign air carrier permit to authorize the carrier to provide all-cargo scheduled service from points behind Italy via Italy and intermediate points to a point or points in the United States and beyond. Ocean also seeks authority to provide charter service between any point or points in Italy and any point or points in the United States and between any point or points in Italy and any point or points in a third country or countries, provided that such service constitutes part of a continuous operation that includes service to Italy and the United States.

Renee V. Wright,
Program Manager, Docket Operations, Federal Register Liaison.

[FR Doc. 06-7805 Filed 9-19-06; 8:45 am]

BILLING CODE 4910-9X-P